FEDERAL COMMUNICATIONS COMMISSION

Sunshine Act; Deletion of Agenda Items From June 21, 2006, Open Meeting

June 21, 2006.

The following items have been deleted from the list of Agenda items scheduled for consideration at the Wednesday, June 21, 2006, open meeting and previously listed in the Commission's Notice of Wednesday, June 14, 2006.

Item No. | Bureau | Subject
1 | Media | Title: Cable Carriage of Digital Television Broadcast Signals (CS Docket No. 98-120).
|  | Summary: The Commission will consider a Second Order on Reconsideration and Second Further Notice of Proposed Rulemaking concerning the mandatory carriage of digital broadcast television signals by cable operators.
4 | International | Title: The Establishment of Policies and Service Rules for the Broadcasting Satellite Service at the 17.3-17.7 GHz Frequency Band and at the 17.7-17.8 GHz Frequency Band Internationally, and at the 24.75-25.25 GHz Frequency Band for Fixed Satellite Services Providing Feeder Links to the Broadcasting-Satellite Service and for the Broadcasting Satellite Service Operating Bi-directionally in the 17.3-17.7 GHz Frequency Band.
|  | Summary: The Commission will consider a Notice of Proposed Rulemaking concerning processing and service rules for the 17/24 GHz Broadcasting Satellite Service (BSS).

Federal Communications Commission.
Marlene H. Dortch,
Secretary.

[FR Doc. 06-5745 Filed 6-23-06; 12:01 pm]

BILLING CODE 6712-01-P